FEDERAL RETIREMENT THRIFT INVESTMENT BOARD

Notice of Board Meeting

DATES: January 27, 2026 at 10:00 a.m. ET.

ADDRESSES: Telephonic. Dial-in (listen only) information: Number: 1-202-599-1426, Code: 503 014 771#; or via web https://www.frtib.gov/.

FOR FURTHER INFORMATION CONTACT: James Kaplan, Director, Office of External Affairs, (202) 864-7150.

SUPPLEMENTARY INFORMATION:

Board Meeting Agenda

Open Session

1. Approval of the December 18, 2025, Board Meeting Minutes

2. Monthly Reports

(a) Participant Report

(b) Legislative Report

3. Quarterly Reports

(c) Investment Review

(d) Budget Review

(e) Audit Status

4. Recordkeeper Service Update

5. Roth In-Plan Conversion

6. Annual Expense Ratio Review

7. Internal Audit Update

8. Full Withdrawal Survey

9. Annual Office Update—Office of Planning and Risk

Closed Session

10. Information covered under 5 U.S.C. 552b (c)(9)(B).

Authority: 5 U.S.C. 552b(e)(1).

Dated: January 8, 2026.
Dharmesh Vashee,
General Counsel, Federal Retirement Thrift Investment Board.

[FR Doc. 2026-00322 Filed 1-9-26; 8:45 am]

BILLING CODE P